FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants:

UTC Overseas, Inc., 100 Lighting Way, #4000, Secaucus, NJ 07094, Officer: Robert Schumann, COO (Qualifying Individual).

Cargo Net International L.L.C., 10925 NW 27th Street, Miami, FL 33173, Officer:Juan Monagas, Manager (Qualifying Individual).

NEC Logistics, Ltd., 1-403 Kosugi-cho, Nakahara-ku, Kawasaki-shi, Kanagawa 211-0063, Japan, Officer:Yasurou Matsuoka, Assoc. Sen. V, President (Qualifying Individual).

Bidux LLC, 5 Lister Ave., Newark, NJ 07105, Officers:Maria Ayr, Manager (Qualifying Individual), Andrei Krainik, Member/Manager.

Port-Air Express Corporation, 1154 54th Street, Brooklyn, NY 11219, Officers: Chain Weiss, Vice President (Qualifying Individual), Susan Weiss, Treasurer.

SAR Transport Systems, Inc., 38 West 32nd Street, Fl. 12A, New York, NY 10001, Officer: Harry Taurani, President (Qualifying Individual).

St. Blue & Co., Inc., 18120 S. Broadway, Suite A, Gardena, CA 90248, Officer: Sammy Son, President (Qualifying Individual).

Speedway Freight System, Inc., 144-26 156th Street, Jamaica, NY 11434, Officer: Woong C. Kang, President (Qualifying Individual).

Non-Vessel Operating Common Carrier and Ocean Freight Forwarder Transportation Intermediary Applicants:

Baillie Moving Systems, Ltd., 600 Kingsland Drive, Batavoa, IL 60510, Officers: Herman Jensen, Vice President (Qualifying Individual), Chris Baillie, President.

STG Freight Services, Inc., 1111 Kane Concourse—Suite 518, Bay Harbor Islands, FL 33154, Officer: Arthur Moroz, Vice President (Qualifying Individual).

Japan Express America Inc., 2203 E. Carson Street, Long Beach, CA 90810, Officer: Hideo Kamimura, Secretary (Qualifying Individual).

NEC Logistics America, Inc., 18615 Ferris Place, Rancho Dominguez, CA 90220, Officers: Eric H. Sakurai, Asst. Secretary (Qualifying Individual), Hidehito Tachikawa, President.

Unique Logistics International (ATL) Inc., 510 Plaza Drive, #2290, Atlanta, GA 30349, Officers: J.M. David Hickmott, Member/Manager (Qualifying Individual), Robert C. Shaver, Member/Manager.

Grimes Transportation Brokerage, Inc., 600 North Ellis Road, Jacksonville, FL 32254, Officers: Paul D. Dupre, Asst. Secretary (Qualifying Individual), Michael O'Leary, President.

CargoLogic USA LLC, 182-16 149th Road, Springfield Gardens, NY 11413, Officers: Melisa R. Sobalvarro, Vice President (Qualifying Individual), Alex Epshteyn, President.

Guam Freight Service, Inc., 2964 Alvarado St., Unit H, San Leandro, CA 94577, Officer: Michael Beidleman, President (Qualifying Individual).

Royal Pacific Shipping Co., 58 Leslie Street, Newark, NJ 07108, Officer: Roydel Rutty, Vice President (Qualifying Individual).

Transbulk Shipping Lines Inc., 5850 Coral Ridge Drive, Ste. 308, Coral Springs, FL 33076, Officers: Luis Burgos, Vice President (Qualifying Individual), Alexis Bocanegra, President.

Ocean Freight Forwarder—Ocean Transportation Intermediary Applicants:

Agility Project Logistics, Inc., 15600 Morales Road, Houston, TX 77032, Officer: Thomas J. Griffin, President (Qualifying Individual).

Gandhi International Shipping, Inc., 2358 W. Devon Ave., Chicago, IL 60659, Officers: Mohammed Ali Gandhi, President (Qualifying Individual), Safiya Gandhi, Secretary.

Blue Ocean Freight, Inc., 250 Valley Street, 2nd Front, Providence, RI 02909, Officer: Ali Karabashi, President (Qualifying Individual).

Freight Master Overseas Inc., 8177 N.W. 67th Street, Miami, FL 33166, Officers: Premchan Rampersad, President (Qualifying Individual), Shaffina Rampersad, Vice President.

Prolong Services Inc. dba PSI Ocean Freight Systems, 5803 Sovereign Dr., Houston, TX 77036, Officers: Stanley A. Egbo, President (Qualifying Individual), Ernest C. Agu, Vice President.

CML USA Inc., 184 Hebero Ave., Paramus, NJ 07652, Officers: Rita Dabragh, Vice President (Qualifying Individual), Elie M. Ibraahim, President.

Dated: February 27, 2009.
Karen V. Gregory,
Secretary.

[FR Doc. E9-4596 Filed 3-3-09; 8:45 am]

BILLING CODE 6730-01-P